SECURITIES AND EXCHANGE COMMISSION

[File No. 500-1]

CNC Development, Ltd., Exousia Advanced Materials, Inc., and South American Minerals, Inc.; Order of Suspension of Trading

August 14, 2013.

It appears to the Securities and Exchange Commission that there is a lack of current and accurate information concerning the securities of CNC Development, Ltd. because it has not filed any periodic reports since the period ended December 31, 2010.

It appears to the Securities and Exchange Commission that there is a lack of current and accurate information concerning the securities of Exousia Advanced Materials, Inc. because it has not filed any periodic reports since the period ended September 30, 2010.

It appears to the Securities and Exchange Commission that there is a lack of current and accurate information concerning the securities of South American Minerals, Inc. because it has not filed any periodic reports since it filed a Form 10-SB/A registration statement on January 19, 2005.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on August 14, 2013, through 11:59 p.m. EDT on August 27, 2013.

By the Commission.
Jill M. Peterson,
Assistant Secretary.

[FR Doc. 2013-20104 Filed 8-14-13; 11:15 am]

BILLING CODE 8011-01-P